DEPARTMENT OF HOMELAND SECURITY

U.S. Customs and Border Protection

Agency Information Collection Activities: United States-Caribbean Basin Trade Partnership Act

AGENCY: U.S. Customs and Border Protection, Department of Homeland Security.

ACTION: 30-Day notice and request for comments; Extension of an existing information collection: 1651-0083.

SUMMARY: U.S. Customs and Border Protection (CBP) of the Department of Homeland Security has submitted the following information collection request to the Office of Management and Budget (OMB) for review and approval in accordance with the Paperwork Reduction Act: United States-Caribbean Basin Trade Partnership Act (CBTPA). This is a proposed extension of an information collection that was previously approved. CBP is proposing that this information collection be extended with a change to the burden hours. This document is published to obtain comments from the public and affected agencies. This proposed information collection was previously published in the Federal Register (75 FR 15446) on March 29, 2010, allowing for a 60-day comment period. This notice allows for an additional 30 days for public comments. This process is conducted in accordance with 5 CFR 1320.10.

DATES: Written comments should be received on or before July 12, 2010.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

SUPPLEMENTARY INFORMATION: U.S. Customs and Border Protection (CBP) encourages the general public and affected Federal agencies to submit written comments and suggestions on proposed and/or continuing information collection requests pursuant to the Paperwork Reduction Act (Pub. L. 104-13). Your comments should address one of the following four points:

(1) Evaluate whether the proposed collection of information is necessary for the proper performance of the functions of the agency/component, including whether the information will have practical utility;

(2) Evaluate the accuracy of the agency's/component's estimate of the burden of the proposed collection of information, including the validity of the methodology and assumptions used;

(3) Enhance the quality, utility, and clarity of the information to be collected; and

(4) Minimize the burden of the collections of information on those who are to respond, including the use of appropriate automated, electronic, mechanical, or other technological techniques or other forms of information.

Title: United States-Caribbean Basin Trade Partnership Act (CBTPA).

OMB Number: 1651-0083.

Form Number: 450.

Abstract: This collection of information is required to implement the duty preference provisions of the United States-Caribbean Basin Trade Partnership Act (CBTPA). The provisions of CBTPA were adopted by the U.S. with the enactment of the Trade and Development Act of 2000 (Pub. L. 106-200). The objective of the CBTPA is to expand trade benefits to countries in the Caribbean Basin. For preferential treatment under CBTPA, importers are required to have CBTPA Certification of Origin (Form 450) in their possession at the time of the claim, and to provide it to CBP upon request. CBP uses the information provided on Form 450 to determine if an importer is entitled to preferential duty treatment under the provisions of the CBTPA. The CBTPA is provided for in 19 CFR 10.224 and the Form 450 can be found at http://www.cbp.gov.

Current Actions: This submission is being made to extend the expiration date with a change to the burden hours. CBP proposes to reduce the burden hours by revising our estimate of the number of claims made under CBTPA on a yearly basis. These revised estimates are based on the number of CBTPA claims that CBP received in 2009.

Type of Review: Extension (with change).

Affected Public: Businesses.

Estimated Number of Respondents: 84.

Estimated Number of Responses per Respondent: 57.2.

Estimated Number of Total Annual Responses: 4,804.

Estimated Time per Response: 15 minutes.

Estimated Total Annual Burden Hours: 1,201.

If additional information is required contact: Tracey Denning, U.S. Customs and Border Protection, Office of Regulations and Rulings, 799 9th Street, NW., 7th Floor, Washington, DC 20229-1177, at 202-325-0265.

Dated: June 7, 2010.
Tracey Denning,
Agency Clearance Officer, U.S. Customs and Border Protection.

[FR Doc. 2010-13935 Filed 6-9-10; 8:45 am]

BILLING CODE 9111-14-P